DEPARTMENT OF HEALTH AND HUMAN SERVICES

Administration for Children and Families

Privacy Act of 1974; System of Records

AGENCY: Office of Refugee Resettlement (ORR), Administration for Children and Families (ACF), Department of Health and Human Services (HHS).

ACTION: Notice of a modified system of records.

SUMMARY: In accordance with the requirements of the Privacy Act of 1974, as amended, the Department of Health and Human Services (HHS) is modifying an existing system of records maintained by the Office of Refugee Resettlement (ORR) within HHS' Administration for Children and Families (ACF), System No. 09-80-0321, ORR Division of Children's Services Records (being renamed ORR Unaccompanied Children Bureau (UCB) Administrative Program Records).

DATES: In accordance with 5 U.S.C. 552a(e)(4) and (11), this system of records is effective January 13, 2025, subject to a 30-day period in which to comment on the new and revised routine uses, described below. Please submit any comments by January 13, 2025.

ADDRESSES: The public should address written comments on this notice to Hanan Abu Lebdeh, Senior Agency Officer for Privacy, by mail at Administration for Children and Families, Mary E. Switzer Building, 330 C Street SW, Washington, DC 20201, or by email at hanan.abulebdeh@acf.hhs.gov.

FOR FURTHER INFORMATION CONTACT: General questions about the modified system of records may be submitted to Edward Nazarko, Technical Lead for UC Technology, Administration for Children and Families, by mail or email at 330 C Street SW, Washington, DC 20201, or edward.nazarko@acf.hhs.gov, or by phone at (202) 839-0615.

SUPPLEMENTARY INFORMATION:

I. Background on ORR Responsibilities, Affecting SORN 09-80-0321

Within ORR, the Unaccompanied Children Bureau (UCB) administers ORR's responsibilities for the placement, care, and services provided to unaccompanied children who are in Federal custody by reason of their immigration status. Such responsibilities are carried out pursuant to ORR's statutory and delegated authorities under section 462 of the Homeland Security Act of 2002 (HSA), 6 U.S.C. 279, section 235 of the William Wilberforce Trafficking Victims Protection Reauthorization Act of 2008 (TVPRA), 8 U.S.C. 1232, and regulations at 45 CFR parts 410 and 411. Systems of records maintained by ORR are “mixed,” in that they contain, or could contain, records pertaining to both (1) individuals who are covered by the Privacy Act and (2) individuals who are not covered by the Privacy Act. SORN 09-80-0321 includes a statement to this effect in the “Categories of Individuals” section.

The Privacy Act applies only to individuals who are U.S. citizens or non-U.S. citizens lawfully admitted for permanent residence in the United States. As a matter of discretion, ORR treats information maintained in its mixed systems of records as being subject to the protections of the Privacy Act, regardless of whether the information relates to individuals covered by the Privacy Act. This policy implements a 1975 Office of Management and Budget (OMB) recommendation to apply, as a matter of discretion, the administrative provisions of the Privacy Act to records about individuals in mixed systems of records (referred to as the non-U.S. persons policy). See OMB Privacy Act Implementation: Guidelines and Responsibilities, 40 FR 28948, 28951 (July 9, 1975).

The Privacy Act defines a “routine use” with respect to the disclosure of a record to mean “the use of such record for a purpose which is compatible with the purpose for which it was collected.” 5 U.S.C. 552a(a)(7). Because ORR is not an immigration enforcement agency—but rather is responsible for placing unaccompanied children with vetted and approved sponsors, providing care and services to unaccompanied children who are in Federal custody by reason of their immigration status, and identifying and assessing the suitability of a potential sponsor for each child—it is incompatible with ORR's program purposes to share information in a system of records, particularly confidential mental health or behavioral information in children's case files, for immigration enforcement purposes. See H.R. Rep No. 116-450, at 185 (2020) (directing ORR to “refrain from sharing any information with immigration courts for master calendar hearings, where the court is not making any decisions about the child's custody,” and to “develop policies and protocols to ensure the confidentiality of counseling and mental health services provided to unaccompanied children, and of all related documentation, including case notes and records of therapists and other clinicians, and to incorporate these policies into the ORR policy guide . . .”); see also id. at 230 (noting the inclusion in that year's appropriations a provision “prohibiting the use of funds to share information provided by unaccompanied children during mental health or therapeutic services with the Department of Homeland Security or the Department of Justice for the purposes of immigration enforcement.”). In addition, consistent with TVPRA 8 U.S.C. 1232(c) and HSA, 6 U.S.C. 279(b), information shared by HHS, with certain limited exceptions, cannot be used to enforce immigration laws against an unaccompanied child's sponsor, potential sponsor or a member of their household.¹ Accordingly, SORN 09-80-0321 mentions at the start of the “Routine Uses” section that disclosures for immigration enforcement purposes will not be made under routine uses, but would be made only with the subject individual's prior written consent.

¹ See Further Consolidated Appropriations Act, 2024, Public Law 118-47, div. C, title II sec. 216 (incorporating by reference Consolidated Appropriations Act, 2020, Public Law 116-93, div. D, title II, sec. 216, prohibiting the Department of Homeland Security from using funds provided by the Act or any other Act, except in certain circumstances, “to place in detention, remove, refer for a decision whether to initiate removal proceedings, or initiate removal proceedings against a sponsor, potential sponsor, or member of a household of a sponsor or potential sponsor of an unaccompanied alien child (as defined in section 462(g) of the Homeland Security Act of 2002 (6 U.S.C. 279(g)) based on information shared by the Secretary of Health and Human Services,” with certain limited exceptions in sec. 216(b) regarding sponsors convicted of serious crimes affecting the welfare of the child); see also 45 CFR 410.1303(h).

ORR may share relevant information in the system of records for other law enforcement and child welfare purposes, such as anti-trafficking investigations, child welfare investigations, or other investigations that seek to ensure that children are “protected from traffickers and other persons seeking to victimize or otherwise engage such children in criminal, harmful, or exploitative activity.” 8 U.S.C. 1232(c)(1). Accordingly, SORN 09-80-0321 includes routine uses authorizing disclosures for such law enforcement purposes.

II. Explanation of Modifications to System of Records 09-80-0321

This system of records covers records about unaccompanied children in Federal custody by reason of their immigration status, their sponsors, potential sponsors, household members of potential sponsors, alternate caregivers identified by sponsors, and information necessary to determine the placement of children within the ORR care provider network, provide services to children and determine their release to a potential sponsor. The System of Records Notice (SORN) has been modified as follows:

• The name of the system of records has been changed from “ORR Division of Unaccompanied Children Services Records” to “ORR Unaccompanied Children Bureau (UCB) Administrative Program Records.”

• The Purpose(s) section now includes two additional purpose descriptions: to assess the suitability of sponsors of unaccompanied children, and to provide post-release services to children released from ORR custody.

• The Categories of Individuals section now includes bullet points to separate the unaccompanied children category from the sponsors and household members categories, and it mentions that household members may include adult caregivers and foster parents.

• The Categories of Records section now describes the record categories as biographical information about unaccompanied children, sponsor background check records, identity documents, and post-release services (PRS) records for greater consistency with the UC Bureau regulations at45 CFR parts 410 and 411, instead of as a computerized indexing system and case files.

• The list of sources in the Record Source Categories section has been revised to add “ORR-funded grantees and contractors” and “ORR staff” and remove “third parties.”

• In the Routine Uses section, ten existing routine uses have been revised and five have been removed, and seven new routine uses have been added, explained as follows:

○ Routine use 1, Disclosure to an Attorney or Representative, has been revised to describe an additional purpose for attorney representation of an unaccompanied child in a state juvenile court matter (i.e., “obtaining a predicate order needed to obtain Special Immigrant Juvenile (SIJ) classification”) and to describe purposes for attorney representation of unaccompanied children and sponsors in matters related to ORR appellate procedures.

○ Routine use 2, Disclosure for Health and Safety, has been revised and reorganized. It now consistently describes the disclosure recipients as “health care providers” (instead of describing them in the opening sentence as “any state or local health care authorities” and elsewhere as “a health provider”); it describes additional types of evaluations that the disclosures could aid in coordinating (i.e., “emergency,” “routine,” “necessary,” and “disability”); and it now states that private health information not related to illnesses that affect public health and safety “is not authorized to be disclosed under this routine use” (instead of stating that it “will remain confidential”).

○ Routine use 3, Disclosure to Protection and Advocacy Organization, has been revised to omit disclosures to Child Advocates, which are still authorized, without change, in a separate routine use instead (see Routine Use 4, Disclosure to Child Advocates); and to include these additional statutory authorities under which disclosures may be made to Protection and Advocacy Organizations: The Developmental Disabilities Assistance and Bill of Rights Act of 2000 (“DD Act”), 42 U.S.C. 15043 and 15044; Protection and Advocacy for Traumatic Brain Injury (PATBI) Act,42 U.S.C. 300d-53; and the Protection and Advocacy for Individual Rights (PAIR) Act 29 U.S.C. 794(e).

○ The routine use previously numbered as routine use 4, Disclosure to Plaintiffs Counsel, has been removed as such disclosures are governed by applicable federal court orders, and disclosures made pursuant to a federal court order are authorized directly in the Privacy Act statute at 5 U.S.C. 552a(b)(12) without the need for a routine use.

○ Routine use 5, Disclosure to Department of Homeland Security, has been updated to clarify in more detail the instances in which information sharing with the Department of Homeland Security may occur (i.e., a more specific list of nine instances, a. through j., is now included instead of this description of four instances: “for the purpose of adjudicating or deciding immigration relief, notification of admission/discharge information and forms, and reported escapes of an unaccompanied child from ORR custody; and for background check purposes to ensure safe releases”), and to require that disclosures under the routine use be made with an express written advisory that no other uses by DHS and no subsequent disclosures by DHS to other entities can be made. In addition, a description of certain non-permitted disclosures has been added at the end of the routine use.

○ Routine use 6, Disclosure for Law Enforcement or Child Welfare Purpose, is now titled “Disclosure for Law Enforcement, Child Welfare Investigation, and State Licensing Purposes.” It now describes additional disclosure purposes (i.e., “to assist with investigations into missing children” and “case management”), and now requires that disclosures under the routine use be made with an express written advisory that no other uses by the receiving entity and no subsequent disclosures by the receiving entity to other entities can be made. In addition, a description of certain non-permitted disclosures has been added at the end of the routine use.

○ A new routine use, numbered as routine use 7, Disclosure to the National Center for Missing and Exploited Children (NCMEC), has been added to authorize disclosures to NCMEC for purposes of assisting with investigations into missing children.

○ The routine use previously numbered as routine use 7, Disclosure for Private Relief Legislation, has been removed, as such disclosures are not made from this system of records, but would be made from system of records 09-90-0068, Federal Private Relief Legislation.

○ Routine use 9, Disclosure to Department of Justice, or in Proceedings, has been reorganized but not otherwise changed, except to no longer state that the disclosures must be compatible with the original purpose for which the information was collected. The statement is unnecessary to include in the wording of a routine use, because compatibility with original collection purpose is part of the definition of a routine use.

○ Routine use 10, Disclosure to Department of Justice for LOPC Facilitation, is now titled “Disclosure to Department of Justice for Legal Orientation Programs for Custodians (LOPC) Facilitation.” It has been revised to add that information such as the child's name, Alien Number, and sponsor category may be shared with DOJ's Executive Office of Immigration Review as part of a case status summary in advance of the child's immigration hearing that ORR determines is in the best interest of the child.

○ A new routine use, Disclosure to the Government Publishing Office, has been added as routine use 12 to authorize information sharing with GPO for purposes of creating portable versions of ORR release or discharge records.

○ The routine use previously numbered as routine use 13, Disclosure to Office Personnel Management, has been removed, as such disclosures are not in fact made from this system of records but would be made from a system of records that covers personnel management records, such as 90-90-0020, Suitability for Employment Records.

○ The routine use previously numbered as routine use 12, Disclosure to Contractors, Grantees, and Others, is now numbered as routine use 13 and titled “Disclosure to Contractors, Grantees, and Stakeholders.” It has been revised to list examples of stakeholders and to require that the work the disclosure recipients are performing for which the disclosures are needed “relat[e] to the administration of services provided by the Unaccompanied Children Bureau (including ancillary purposes, such as information technology (IT) system support).”

○ Routine use 14, Disclosure in Connection with Litigation, is now titled “Disclosure in Connection with Litigation or Settlement Discussions” and, at the end of the routine use, “litigation or discussions” has been changed to “litigation or settlement discussions.”

○ The routine use previously numbered as routine use 16, Disclosure for Administrative Claims, Complaints, and Appeals, has been removed, as such disclosures are not made from this system of records, but would be made from a system of records that covers records about personnel claims.

○ The routine use previously numbered as routine use 17, Disclosure to State Refugee Coordinators, is now numbered as routine use 16, and the disclosure purposes it describes are now stated to be “in accordance with8 U.S.C. 1232(c)(2).”

○ The routine use previously numbered as routine use 18, Disclosure to other Federal Departments and Nongovernmental Organizations and Foreign Governments for Safe Repatriation of UC, is now numbered as routine use 17 and is now titled “Disclosure to other Federal Departments and Nongovernmental Organizations and Foreign Governments for Safe Repatriation of Unaccompanied Children and for Reuniting Children with a Parent or Sponsor Abroad.” It has been revised to include this additional disclosure purpose: “reuniting unaccompanied children with a parent or sponsor abroad in appropriate cases under the Homeland Security Act, 6 U.S.C. 279(b)(1)(H).”

○ The two breach response-related routine uses that were added in February 2018 (one of which was a revised version of an existing routine use, and one of which was new) are now numbered as routine uses 18 and 19.

○ The routine use previously numbered as routine use 20 (which authorized disclosures to the Department of Homeland Security (DHS) in the event that information from this system of records were captured in an intrusion detection system used by DHS for cybersecurity monitoring purposes) has been deleted. The reason for the deletion is to enable ORR to evaluate any such disclosure in advance, by requiring DHS to make a formal law enforcement request under5 U.S.C. 552a(b)(7) any time that DHS needs to examine information captured in an intrusion detection system to address a cybersecurity incident.

○ A new routine use, Disclosure to Department of State, has been added as routine use 20 to authorize information sharing with the Department of State for purposes such as humanitarian operations, sponsor background checks, best interest determinations, and family unification efforts. It includes a description of certain non-permitted disclosures at the end of the routine use, and it requires that disclosures under the routine use be made with an express written advisory that no other uses by the Department of State and no subsequent disclosures by the Department of State to other entities can be made.

○ A new routine use, Disclosure to State and Local Child Welfare Agencies and State and Local Governments, has been added as routine use 21 to authorize information sharing with state child welfare agencies and state and local governments to assist community agencies in providing services to unaccompanied children placed in their localities and for school enrollment. It includes a description of certain non-permitted disclosures at the end of the routine use, and it requires that disclosures under the routine use be made with an express written advisory that no other uses by the receiving entity and no subsequent disclosures by the receiving entity to other entities can be made.

○ A new routine use, Disclosure to a Foreign Government's Embassy or Consulate, has been added as routine use 22 to authorize information sharing with foreign embassies and consulates for the purposes of authenticating identity documents and information about children in ORR custody with respective consulates, and fulfilling the consular notification obligations binding on federal agencies pursuant to international law and treaties in accordance with Department of State guidance on applicable law

○ A new routine use, Disclosure for Approved Research Purposes, has been added as routine use 23 to authorize information sharing related to research purposes that ORR determines to be likely to contribute to the policymaking, operations, and mission of the UC Bureau.

○ A new routine use, Disclosure to ACF Unaccompanied Children Office of the Ombuds, has been added as routine use 24 to authorize information sharing with the ACF Unaccompanied Children Office of the Ombuds for investigation and reporting purposes.

○ The Storage section now states: “Records are stored on cloud web servers and/or in file folders,” instead of: “Computer records are stored on a computer network. Paper records are stored in file folders.”

○ The Retrieval section now includes date of birth, and no longer includes SSN, in the description of personal identifiers used for retrieval.

○ The Retention section now states that records are retained for 50 years after a child is released from ORR custody, citing disposition schedules DAA-0292-2019-0009-0001 and DAA-0292-2019-0009-0002. (Previously, it stated that computerized indexing system records were retained permanently and that case files were retained for five years following receipt of the final progress report, citing disposition schedules N1-292-90-04, item 15 and N1-292-90-4, item 34.)

○ The Safeguards section now describes specific administrative, technical, and physical safeguards that are used to protect the records from unauthorized access, instead of merely stating that Safeguards conform to the HHS Information Security Program.

○ The Request Procedures sections have been updated to require that access, amendment, and notification requests include date and place of birth; to no longer require that requests include SSN; to explain that an accounting of disclosures may also be requested; and to explain how to verify identity instead of referring to the HHS Privacy Act regulations for an explanation.

III. The Privacy Act

The Privacy Act of 1974, as amended (5 U.S.C. 552a), governs the means by which the U.S. Government collects, maintains, and uses information about individuals in a system of records for purposes compatible with the purpose for which the record is collected. A “system of records” is a group of any records under the control of a federal agency from which information about an individual is retrieved by the individual's name or other personal identifier. The Privacy Act requires each agency to publish in the Federal Register a system of records notice (SORN) identifying and describing each system of records the agency maintains, including the purposes for which the agency uses information about individuals in the system, the routine uses for which the agency discloses such information outside the agency, and how individual record subjects can exercise their rights under the Privacy Act (e.g., to determine if the system contains information about them).

As required by the Privacy Act at 5 U.S.C. 552a(r), HHS has sent a report of this amended system of records and new system of records to the Committee on Homeland Security and Governmental Affairs of the Senate, the Committee on Oversight and Accountability of the House of Representatives, and the OMB Office of Information and Regulatory Affairs.

Robin Dunn Marcos,
Deputy Assistant Secretary for Humanitarian Services Director, Office of Refugee Resettlement.

SYSTEM NAME AND NUMBER:

ORR Unaccompanied Children Bureau (UCB) Administrative Program Records, 09-80-0321.

SECURITY CLASSIFICATION:

Unclassified.

SYSTEM LOCATION:

The address of the component responsible for the system of records is the Bureau of Operations, Office of Refugee Resettlement (ORR), Administration for Children and Families (ACF), Department of Health and Human Services (HHS), Mary E. Switzer Building, 330 C Street SW, Washington, DC 20201.

SYSTEM MANAGER(S):

Principal Deputy Director, Office of Refugee Resettlement, Administration for Children and Families, Mary E. Switzer Building, 330 C Street SW, Washington, DC 20201, UCPolicy-RegulatoryAffairs@acf.hhs.gov, (202) 401-9246.

AUTHORITY FOR MAINTENANCE OF THE SYSTEM:

6 U.S.C. 279 and 8 U.S.C. 1232.

PURPOSE(S) OF THE SYSTEM:

The records are used within HHS/ACF/ORR to administer the Unaccompanied Children Bureau (UCB) program, the purposes of which are:

• to provide care and custody of unaccompanied children transferred to ORR custody until (1) their release to a family member or sponsor in the United States or abroad, in appropriate cases, (2) their removal to their home country by Department of Homeland Security (DHS) immigration officials, (3) they receive lawful immigration status, or (4) they turn 18 years of age;

• to assess the suitability of sponsors of unaccompanied children; and

• to provide post-release services to children released from ORR custody.

CATEGORIES OF INDIVIDUALS COVERED BY THE SYSTEM:

The records are about these categories of individuals:

• Unaccompanied children (UC), which include:

○ unaccompanied children currently and formerly in ORR's care and custody by reason of their immigration status;

○ children of unaccompanied children who are housed together with their unaccompanied child parents who are in ORR custody;

○ unaccompanied children who later receive an adjustment of status or become U.S. citizens; and

○ children referred to ORR as likely to be an unaccompanied child;

• sponsors and potential sponsors of unaccompanied children; and

• members of a sponsor's or potential sponsor's household (including both U.S. and non-U.S. citizens, adult caregivers, and foster parents).

Unaccompanied children are children who have no lawful immigration status in the United States; have not attained 18 years of age; and with respect to whom (i) there is no parent or legal guardian in the United States; or (ii) no parent or legal guardian in the United States is available to provide care and physical custody. See 6 U.S.C. 279(g)(2).

The Privacy Act applies only to U.S. citizens and non-U.S. citizens lawfully admitted for permanent residence in the United States. As a matter of discretion, ORR will treat information that it maintains in its mixed systems of records (i.e., those that contain records about both individuals who are—and individuals who aren't—covered by the Privacy Act) as being subject to the provisions of the Privacy Act, regardless of whether the information relates to individuals covered by the Privacy Act. This implements a 1975 Office of Management and Budget (OMB) recommendation to apply, as a matter of policy, the administrative provisions of the Privacy Act to records about individuals who aren't covered by the Privacy Act when the records are maintained in mixed systems of records (referred to as the non-U.S. persons policy).

CATEGORIES OF RECORDS IN THE SYSTEM:

The records consist of the below categories of records, which are used in providing care, custody, placement, services, and release of unaccompanied children. They include biographical information about unaccompanied children, sponsor background check records, identity documents, and post-release services (PRS) records, further described below:

• Biographical information about unaccompanied children includes the child's name, Alien Registration Numbers (A#), Fingerprint Identification Numbers (FINs), and date and place of birth, as well as information about apprehension; criminal records; financial information; addresses; attorney of record; parents and other family members; sponsors and potential sponsors and their household members (including adult caregivers and foster parents) identified in a sponsor care plan; case disposition information; home-study results; sexual assault hotline and National Call Center information; admission documents; legal records; health information (medical, dental, DNA, mental health, and behavioral health records); child assessments; educational records; incident and grievance reports; release/discharge records; sponsor application and supporting documentation; and sponsor assessments.

• Sponsor background check records may include the sponsor's, potential sponsor's and, as applicable, household member's and adult caregiver's biographical information, such as name, address, and date of birth, as well as FBI fingerprint check results and state criminal and child protective services check results.

• Identity documents include, for example, birth certificates, driver's licenses, Permanent Resident Cards or Alien Registration Receipt Cards, passports, document authentication records, and other official domestic and foreign government-issued identity documents.

• Post-release services (PRS) records may include monthly reports, case notes, service plans, list of resources and referrals, safety plans, initial assessments, mental health assessments, trafficking assessments, additional ongoing assessments, closing reports, and correspondence with the sponsor.

RECORD SOURCE CATEGORIES:

Record subjects; family members; private individuals; private and public hospitals; doctors, nurses, and other clinicians; law enforcement agencies and officials; attorneys; ORR-funded grantees and contractors; ORR staff; foreign governments; other federal agencies, state and local governments, agencies, and instrumentalities.

ROUTINE USES OF RECORDS MAINTAINED IN THE SYSTEM, INCLUDING CATEGORIES OF USERS AND PURPOSES OF SUCH USES:

In addition to the disclosures authorized directly in the Privacy Act at 5 U.S.C. 552a(b)(1) and (2) and (4) through (11), these routine uses, which are published pursuant to 5 U.S.C. 552a(b)(3) and (e)(4)(D) and (11), specify circumstances under which ACF may disclose information from this system of records without the prior written consent of the record subject. A routine use is defined in the Privacy Act at 5 U.S.C. 552a(a)(7) as a disclosure of a record for a use that is compatible with the purpose for which the record was collected; accordingly, each of these routine uses authorizes disclosures for purposes that are compatible with the purpose for which the information was collected.

Each proposed disclosure of information under these routine uses (and any proposed disclosure in response to a law enforcement request that complies with 5 U.S.C. 552a(b)(7)) will be evaluated to ensure that the disclosure is legally permissible and consistent with ORR's responsibilities under the William Wilberforce Trafficking Victims Protection Reauthorization Act of 2008, 8 U.S.C. 1232 and the Homeland Security Act, 6 U.S.C. 279 to provide for the care and custody of unaccompanied children in Federal custody by reason of their immigration status, place them in the least restrictive setting while in HHS custody, and release them to a suitable sponsor, primarily their parent or a family member, pending resolution of their immigration status. ORR is not an immigration enforcement agency and does not maintain records for immigration enforcement purposes. Accordingly, in no case shall a disclosure under a routine use (or a disclosure in response to a law enforcement request that complies with 5 U.S.C. 552a(b)(7)) include sharing information from this system of records with other federal agencies or entities (e.g., the Department of Homeland Security, the Department of Justice) for purposes that are incompatible with HHS/ORR Unaccompanied Children Bureau statutes, regulations and policies, such as for immigration enforcement purposes (including initiating immigration enforcement activities, determining whether an individual should be removed from the United States, for immigration detention or bond determinations, or verifying an individual's statements in removal proceedings ²). Any disclosure for immigration enforcement purposes would be made only with the prior written consent of the subject individual(s).

² See 45 CFR 1201(b) stating “ORR shall not disqualify potential sponsors based solely on their immigration status and shall not collect information on immigration status of potential sponsors for law enforcement or immigration enforcement related purposes. ORR shall not share any immigration status information relating to potential sponsors with any law enforcement or immigration enforcement related entity at any time.”

1. Disclosure to an Attorney or Representative. Information may be disclosed to: an attorney or representative (as defined in 8 CFR 1.2) who is acting on behalf of an individual covered by this system of records in connection with any proceeding before the Department of Homeland Security or the Executive Office for Immigration Review; an attorney representing an unaccompanied child in a state juvenile court matter that may determine or alter the unaccompanied child's custody status or placement or for purposes of obtaining a predicate order needed to obtain Special Immigrant Juvenile (SIJ) classification; an attorney representing an unaccompanied child in a juvenile or criminal court in relation to criminal charges; and an attorney representing an unaccompanied child in a hearing or other matter related to ORR's appellate procedures, including those relating to placement in a restrictive setting, risk determinations, or release from ORR custody. Information may be released to an attorney representing an unaccompanied child with respect to decisions involving the child's placement, care, custody and release, and/or the administration of psychotropic medications to the child. Information regarding a significant incident related to an unaccompanied child may be disclosed to an attorney representing the child. A disability evaluation report pertaining to an unaccompanied child may be disclosed to an attorney representing the child. Information may also be disclosed to an attorney representing a potential sponsor in relation to ORR's appellate procedures concerning a sponsorship denial of a parent, legal guardian, or close relative.

2. Disclosure for Health and Safety. Private health information of unaccompanied children may be disclosed to health care providers for the purposes of coordinating emergency, routine, and necessary medical, mental health, and disability evaluations, services, and care for unaccompanied children while in ORR care and custody. Information may be shared with a health provider to make age determinations for unaccompanied children. Information related to communicable diseases or other illnesses that have the potential to affect public health and safety may be disclosed to any state or local health authorities, to ensure that all health issues potentially affecting public health and safety in the United States are being, or have been, adequately addressed. Private health information not related to communicable diseases or other illnesses that affect public health and safety is not authorized to be disclosed under this routine use.

3. Disclosure to Protection and Advocacy Organization. Information may be disclosed to a Protection and Advocacy organization when access is authorized by, and the request is appropriately made under, one or more of the following: The Protection and Advocacy for Individuals with Mental Illness Act (PAMI), 42 U.S.C. 10801 et seq.; The Developmental Disabilities Assistance and Bill of Rights Act of 2000 (“DD Act”), 42 U.S.C. 15043 and 15044; Protection and Advocacy for Traumatic Brain Injury (PATBI) Act 42 U.S.C. 300d-53; or the Protection and Advocacy for Individual Rights (PAIR) Act, 29 U.S.C. 794(e).

4. Disclosure to Child Advocate. Information may be disclosed to an HHS-appointed child advocate for the purpose of effectively advocating for the best interest of the child. Child advocates are granted access to this information under section 235(c)(6) of the William Wilberforce Trafficking Victims Protection Reauthorization Act of 2008, 8 U.S.C. 1232(c)(6).

5. Disclosure to Department of Homeland Security. Information may be disclosed to the Department of Homeland Security (DHS) for:

a. Reporting the death or arrest of an unaccompanied child in ORR custody or unauthorized absences of unaccompanied children from ORR custody;

b. Transferring individuals to DHS custody for the limited purpose of facilitating continuity of medical care (subject to the applicable information sharing restrictions set forth in 45 CFR parts 410 and 411 and the ORR UC Policy Guide);

c. Facilitating transfer to DHS custody of individuals determined to be adults, or who turn 18 years old, including information relevant to determining whether the individual committed a crime that ORR determines would make the individual a danger to the community;

d. Communicating reports of abuse, neglect, sexual harassment, or inappropriate sexual behavior that occurred while a child was in DHS custody before being transferred to ORR custody;

e. Correcting the child's information in government systems; and for age determinations, see 8 U.S.C. 1232(b)(4);

f. Providing notice of transfers of unaccompanied children in ORR custody between care provider facilities, and for discharge notifications;

g. The limited purpose of facilitating human trafficking investigations by DHS Homeland Security Investigations (HSI) to ensure child safety;

h. Validating the relationship between a child and an accompanying adult (e.g., where DHS potentially separated a child from their parent or legal guardian before transferring the child to ORR);

i. Communicating a child's medical information with the DHS Office of Health Security for the purpose of facilitating continuity of medical care for the child.

In no case shall information from this system of records, including mental health or behavioral information, be shared or used for purposes that are incompatible with HHS/ORR Unaccompanied Children Bureau statutes, regulations and policies, such as for immigration enforcement purposes (including initiating immigration enforcement activities, determining whether an individual should be removed from the United States, for immigration detention or bond determinations, or verifying an individual's statements in removal proceedings).

Disclosures under this routine use will be made with an express written advisory that no other uses by DHS and no subsequent disclosures by DHS the receiving entity to other entities can be made.

6. Disclosure for Law Enforcement, Child Welfare Investigation, and State Licensing Purposes. Disclosures under this routine use will be made with an express written advisory that no other uses by the receiving entity and no subsequent disclosures by the receiving entity to other entities can be made. Information may be disclosed to the appropriate federal, state, local, tribal, or foreign agency responsible for investigating, prosecuting, enforcing, or implementing a statute, rule, regulation, or order, if the information is relevant to a violation or potential violation of civil or criminal law or regulation within the jurisdiction of the receiving entity (other than immigration enforcement) and ORR determines that the disclosure is in the best interest of the child; to assist with investigations into missing children; and for sponsor background checks and case management, to ensure safe releases. Information may be shared with certain state and local agencies that provide child welfare services such as state licensing agencies, Child Protective Services, and education agencies such as state, county, or municipal schools for the purpose of protecting an unaccompanied child's health and welfare and sponsor background check purposes to ensure safe releases. In no case shall information from this system of records be further shared or used for purposes that are incompatible with HHS/ORR Unaccompanied Children Bureau statutes, regulations and policies, such as for immigration enforcement purposes (including initiating immigration enforcement activities, determining whether an individual should be removed from the United States, for immigration detention or bond determinations, or verifying an individual's statements in removal proceedings).

7. Disclosure to the National Center for Missing and Exploited Children (NCMEC). Information may be disclosed to the NCMEC to assist with investigations into missing children.

8. Disclosure to Congressional Office. Information may be disclosed to a congressional office from the record of an individual in response to a written inquiry from the congressional office made at the written request of the individual.

9. Disclosure to Department of Justice, or in Proceedings. Information may be disclosed to the Department of Justice, or in a proceeding before a court, adjudicative body, or other administrative body before which HHS is authorized to appear, when any of the following is a party to the proceedings or has an interest in such proceedings, and the use of such records by the Department of Justice or HHS is deemed by HHS to be relevant and necessary to the proceedings:

• HHS, or any component thereof;

• any employee of HHS in his or her official capacity;

• any employee of HHS in his or her individual capacity where the Department of Justice or HHS has agreed to represent the employee; or

• the United States, if HHS determines that litigation is likely to affect HHS or any of its components.

10. Disclosure to Department of Justice for Legal Orientation Programs for Custodians (LOPC) Facilitation. Information may be disclosed to the Department of Justice, Executive Office for Immigration Review (EOIR) for purposes of collaboration in facilitating sponsors' participation in LOPCs under section 235(c)(4) of the William Wilberforce Trafficking Victims Protection Reauthorization Act of 2008, 8 U.S.C. 1232(c)(4). ORR may also share limited information with EOIR as part of a case status summary in advance of a child's immigration hearing that ORR determines is in the best interest of the child, such as name, Alien Number, and sponsor category.

11. Disclosure to the National Archives and Records Administration (NARA). Information may be disclosed to the National Archives and Records Administration in its records management inspections.

12. Disclosure to the Government Publishing Office (GPO). Information may be shared with GPO for purposes of creating portable versions of ORR release or discharge records.

13. Disclosure to Contractors, Grantees, and Stakeholders. Information may be disclosed to contractors, grantees, consultants, volunteers, or stakeholders (including, but not limited to, legal service providers, case coordinators, medical providers, non-HHS Federal agency partners, child advocates, attorneys of record, sponsors and potential sponsors, educational institutions, and organizations providing services to unaccompanied children and sponsors) performing or working on a contract, service, grant, cooperative agreement, job, or memorandum of understanding, or other activity for HHS relating to the administration of services provided by the Unaccompanied Children Bureau (including ancillary purposes, such as information technology (IT) system support) and who have a need to have access to the information in the performance of their duties or activities for HHS, and for reunification purposes.

14. Disclosure in Connection with Litigation or Settlement Discussions. Information may be disclosed in connection with litigation or settlement discussions regarding claims by or against HHS, including public filing with a court, to the extent that disclosure of the information is relevant and necessary to the litigation or settlement discussions.

15. Disclosure Incident to Requesting Information. Information may be disclosed (to the extent necessary to identify the individual, inform the source of the purpose of the request, and to identify the type of information requested), to any source from which additional information is requested when necessary to obtain information relevant to an agency decision concerning benefits.

16. Disclosure to State Refugee Coordinators. Information may be shared with State Refugee Coordinators for children in ORR care who are being transferred into ORR's Unaccompanied Refugee Minors program for purposes of coordinating appropriate placement and services for the child in accordance with 8 U.S.C. 1232(c)(2). The State Refugee Coordinator refers to the individual(s) designated by a Governor or a State to be responsible for, and authorized to, ensure coordination of public and private resources in refugee resettlement.

17. Disclosure to other Federal Departments and Nongovernmental Organizations and Foreign Governments for Safe Repatriation of Unaccompanied Children and for Reuniting Children with a Parent or Sponsor Abroad. Information may be disclosed to other federal agencies (such as the Department of State, Department of Justice, Department of Homeland Security), nongovernmental organizations and foreign governments as it relates to the safe repatriation of unaccompanied children to their country of origin as directed under the William Wilberforce Trafficking Victims Protection Reauthorization Act of 2008 section 235(a)(5), 8 U.S.C. 1232(a)(5) and for reuniting unaccompanied children with a parent or sponsor abroad in appropriate cases under the Homeland Security Act, 6 U.S.C. 279(b)(1)(H).

18. Disclosure in the Event of a Security Breach Experienced by HHS. Information may be disclosed to appropriate agencies, entities, and persons when (1) HHS suspects or has confirmed that there has been a breach of the system of records; (2) HHS has determined, as a result of the suspected or confirmed breach, there is a risk of harm to individuals, the agency (including its information systems, programs, and operations), the Federal Government, or national security; and (3) the disclosure made to such agencies, entities, and persons is reasonably necessary to assist in connection with HHS' efforts to respond to the suspected or confirmed breach, or to prevent, minimize, or remedy such harm.

19. Disclosure to Assist Another Agency Experiencing a Breach. Information may be disclosed to another federal agency or federal entity, when HHS determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

20. Disclosure to Department of State. Information may be disclosed to the Department of State for humanitarian operations, sponsor background checks, best interest determinations, and family unification efforts, including obtaining and verifying identity documents (birth certificates, passports, and government-issued identifications) of unaccompanied children, their sponsors, and household members who are also eligible for immigration relief, family unification, or humanitarian evacuation. In no case shall such information be shared for immigration enforcement purposes (including initiating immigration enforcement activities, such as determining whether an individual should be removed from the United States, for immigration detention or bond determinations or verifying an individual's statements in removal proceedings). Disclosures under this routine use will be made with an express written advisory that no other uses by the Department of State and no subsequent disclosures by the Department of State to other entities can be made.

21. Disclosure to State and Local Child Welfare Agencies and State and Local Governments. ORR may disclose information of children and sponsors to local and state agencies offering post-release services to the child or sponsor for the purpose of facilitating delivery of child welfare services and safe releases if ORR determines that the disclosure is in the child's best interest. ORR may also disclose information of children and sponsors to state and local government entities, such as school districts, for the purpose of facilitating enrollment of unaccompanied children in a school or educational program and for individualized education planning, including but not limited to obtaining special education services when needed. In no case shall such information be shared with state or local entities for immigration enforcement purposes (including initiating immigration enforcement activities, such as determining whether an individual should be removed from the United States, for immigration detention or bond determinations or verifying an individual's statements in removal proceedings). Disclosures under this routine use will be made with an express written advisory that no other uses by the receiving entity and no subsequent disclosures by the receiving entity to other entities can be made.

22. Disclosure to a Foreign Government's Embassy or Consulate. ORR may disclose copies of birth certificates, passports, or other official, foreign government-issued identity documents to foreign embassies and consulates for the purpose of authenticating those documents, verifying identity, and for sponsor background check purposes. ORR may also disclose information of children when notifying foreign embassies and consulates that a child from their country is in ORR custody in accordance with Department of State guidance on applicable law. In no case shall information from this system of records, including mental health or behavioral information, be shared or used for purposes that are incompatible with HHS/ORR Unaccompanied Children Bureau statutes, regulations and policies, such as disclosing information to foreign consulates that may indicate a child may have a fear of persecution or other mistreatment by their country, or may be seeking asylum or refugee status. Disclosure for Approved Research Purposes. ORR may disclose information for research purposes and predictive modeling to entities conducting relevant research that ORR determines contributes to ORR's policymaking, operations, and mission of the UC Bureau.

23. Disclosure to ACF Unaccompanied Children Office of the Ombuds. ORR may disclose information to the ACF Unaccompanied Children Office of the Ombuds in accordance with the Ombuds' investigation and reporting purposes.

POLICIES AND PRACTICES FOR STORAGE OF RECORDS:

Records are stored on cloud web servers and/or in file folders.

POLICIES AND PRACTICES FOR RETRIEVAL OF RECORDS:

Personal identifiers used for retrieval include the name, Alien Registration Number, and/or date of birth of the unaccompanied child; name and/or date of birth of the potential sponsor; and the name and/or date of birth of the potential sponsor's household member or adult caregiver identified in a sponsor care plan.

POLICIES AND PRACTICES FOR RETENTION AND DISPOSAL OF RECORDS:

Records are retained for 50 years after a child is released from ORR custody (see National Archives and Records Administration-approved record retention and disposition schedules DAA-0292-2019-0009-0001 and DAA-0292-2019-0009-0002).

ADMINISTRATIVE, TECHNICAL, AND PHYSICAL SAFEGUARDS:

Information in this system is safeguarded in accordance with applicable laws, rules, and policies. Access to the records is restricted to authorized personnel who are advised of the confidentiality of the records and the civil and criminal penalties for misuse. All record keepers are required to maintain appropriate administrative, technical, and physical safeguards to protect the records from unauthorized access. Administrative safeguards include background checks, as well as training individuals who have access to the records on how to handle them appropriately, incident response plans, mandatory security and privacy awareness training, limiting access to individuals who need to know the information, and reviewing security controls on an ongoing basis. Technical safeguards include the use of antivirus software, vulnerability patching, multi-factor authentication when required, or username and password, and storing electronic records in encrypted form, to limit system access to authorized users. Physical safeguards include storing hard copy records and computer terminals used to access electronic records in physically locked locations when not in use. Safeguards conform to the HHS Information Security Program, https://www.hhs.gov/ocio/securityprivacy/index.html.

RECORD ACCESS PROCEDURES:

Individuals may request access to a record about them in this system of records by submitting a written access request to the System Manager. The request must include, as applicable, the individual's name, Alien Registration Number, date and place of birth, telephone number and/or email address, current address, and signature. In addition, to further verify the individual's identity, the individual must provide either a notarization of the request or a written certification that the requester is the individual who the requester claims to be and understands that the knowing and willful request for, or acquisition of, a record pertaining to an individual under false pretenses is a criminal offense under the Privacy Act, subject to a fine of up to $5,000. An individual may also request an accounting of disclosures that have been made of any records about that individual. Verification of identity is also required for a parent or legal guardian who makes a request on behalf of a minor (in addition to verifying the minor's identity).

CONTESTING RECORD PROCEDURES:

Individuals seeking to amend a record about them in this system of records must submit a written request for amendment to the System Manager. The request must provide the same information described under “Record Access Procedures,” including identity verification information, and must specify the information that is contested, the corrective action sought, and the reason(s) for requesting the correction, and include supporting information. The right to contest records is limited to information that is factually inaccurate, incomplete, irrelevant, or untimely (obsolete).

NOTIFICATION PROCEDURES:

Individuals seeking to determine whether this system of records contains information about them must submit a written notification request to the System Manager. The request must include the same information described under “Record Access Procedures,” including identity verification information.

EXEMPTIONS PROMULGATED FOR THE SYSTEM:

None.

HISTORY:

81 FR 46682 (July 18, 2016), 83 FR 6591 (Feb. 14, 2018).

[FR Doc. 2024-29113 Filed 12-11-24; 8:45 am]

BILLING CODE 4184-45-P